DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 75 FR 7608-7610 dated February 22, 2010).

This notice reflects organizational changes in the Health Resources and Services Administration. Specifically, this notice updates the functional statements for the Division of Practitioner Data Banks (RPG), within the Bureau of Health Professions (RP).

Chapter RP, Bureau of Health Professions

Section RP-20, Functions

Delete the functional statement for the Division of Practitioner Data Banks (RPG) in its entirety and replace with the following:

Division of Practitioner Data Banks (RPG)

Coordinates with the Department and other Federal entities, State licensing boards, and National, State and local professional organizations to promote quality assurance efforts and deter fraud and abuse by administering the National Practitioner Data Bank (NPDB) as authorized under Title IV of the Health Care Quality Improvement Act of 1986 and Section 5 of the Medicare and Medicaid Patient and Program Protection Act of 1987, and administering the Healthcare Integrity and Protection Data Bank (HIPDB) for the Office of Inspector General. Specifically: (1) Maintains active consultative relations with professional organizations, societies, and Federal agencies involved in the NPDB and HIPDB; (2) maintains and publishes State Board compliance reports; (3) conducts audits to ensure validity of data in the banks; (4) develops programs of research on trends in data, quality assurance, risk management, medical liability and malpractice; (5) conducts and supports research based on NPDB and HIPDB information; (6) works with the other departmental entities to provide technical assistance to States undertaking malpractice reform; (7) analyzes multi-year State licensing board reporting patterns; and (8) maintains liaison with the Office of the General Counsel and the Office of the Inspector General, HHS, concerning practitioner licensing and data bank issues.

Section RP-30, Delegations of Authority

All delegations of authority and re-delegations of authority made to HRSA officials that were in effect immediately prior to this reorganization, and that are consistent with this reorganization, shall continue in effect pending further re-delegation.

This reorganization is effective upon signature.

Dated: March 5, 2010.
Mary K. Wakefield,
Administrator.

[FR Doc. 2010-5679 Filed 3-15-10; 8:45 am]

BILLING CODE 4165-15-P